FEDERAL COMMUNICATIONS COMMISSION

47 CFR Part 73

[DA 06-1076; MB Docket No. 05-121; RM-11197]

Radio Broadcasting Services; Knightdale and Wilson, NC

AGENCY: Federal Communications Commission.

ACTION: Final rule.

SUMMARY: This document grants a petition filed by Capstar TX Limited Partnership, licensee of Station WRDU(FM), Channel 291C0, Wilson, North Carolina, requesting the reallotment of Channel 291C0 from Wilson to Knightdale, as its first local service, and modification of the Station WRDU(FM) license to reflect the change. Channel 291C0 can be reallotted to Knightdale, using reference coordinates 35-47-50 NL and 78-22-15 WL, which requires a site restriction of 10 kilometers (6.2 miles) east of the community to avoid short-spacings to the license sites of Station WFJA(FM), Channel 288A, Sanford, North Carolina and Station WMNA-FM, Channel 292A, Gretna, Virginia.

DATES: Effective July 10, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-121, adopted May 24, 2006, and released May 26, 2006. The full text of this Commission decision is available for inspection and copying during normal business hours in the Commission's Reference Information Center, 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

On April 10, 2003, Station WRDU(FM) was granted a license to specify operation on Channel 291C0 in lieu of Channel 291C at Wilson, North Carolina. See File No. BLH-20020607AAR.

List of Subjects in 47 CFR Part 73

Radio, Radio broadcasting.

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under North Carolina, is amended by adding Knightdale, Channel 291C0 and by removing Wilson, Channel 291C.

Federal Communications Commission.
John A. Karousos,
Assistant Chief, Audio Division, Media Bureau.

[FR Doc. E6-9073 Filed 6-13-06; 8:45 am]

BILLING CODE 6712-01-P